DEPARTMENT OF THE INTERIOR

National Park Service

Correction—Notice of Inventory Completion for Native American Human Remains and Associated Funerary Objects in the Possession of the Hastings Museum of Natural and Cultural History, Hastings, NE

AGENCY: National Park Service, Interior.

ACTION: Correction.

Notice is hereby given in accordance with provisions of the Native American Graves Protection and Repatriation Act (NAGPRA), 43 CFR 10.9, of the completion of an inventory of human remains and associated funerary objects in the possession of the Hastings Museum of Natural and Cultural History, Hastings, NE. This notice corrects the consulted tribes for the Notice of Inventory Completion published February 21, 2001.

The third paragraph of the February 21, 2001, notice is corrected as follows:

A detailed assessment of the human remains was made by Hastings Museum of Natural and Cultural History professional staff in consultation with representatives of the KTNAGPRA Committee representing the Klamath Indian Tribes of Oregon, Modoc Tribe of Oklahoma, and Yahooskin Band of the Snake Indians (an Indian group that shares a unified government with, and is represented by, the Klamath Indian Tribes of Oregon).

Dated: March 22, 2001.
John Robbins,
Assistant Director, Cultural Resources Stewardship and Partnerships.

[FR Doc. 01-8981 Filed 4-11-01; 8:45 am]

BILLING CODE 4310-70-F